DEPARTMENT OF THE INTERIOR

Bureau of Land Management

[LLCON01000.L51100000.GA0000.LVEMC17CC180.17X]

Notice of Availability of the Environmental Assessment and Notice of Public Hearing for the Peabody Twentymile Coal LLC, Federal Coal Lease-by-Application COC-78449, Routt County, CO

AGENCY: Bureau of Land Management, Interior.

ACTION: Notice of availability and notice of public hearing.

SUMMARY: In accordance with Federal coal management regulations, the Peabody Twentymile Coal, LLC, (Twentymile) Federal Coal Lease-by-Application (LBA) Environmental Assessment (EA) is available for public review and comment. The Bureau of Land Management (BLM) Little Snake Field Office (LSFO) will hold a public hearing to receive comments on the EA, Fair Market Value (FMV), and Maximum Economic Recovery (MER) of the coal resources for Peabody Twentymile Coal, LLC, serial number COC-78449.

DATES: The public hearing will be held November 28, 2018, from 5 p.m. to 7 p.m. Written comments must be received no later than December 6, 2018.

ADDRESSES: The public hearing will be held at the BLM LSFO, 455 Emerson St., Craig, CO 81625. Written comments specific to the Twentymile LBA, FMV and MER must be sent to Jennifer Maiolo at the BLM LSFO, 455 Emerson St., Craig, CO 81625, via email to jmaiolo@blm.gov or via fax to 970-826-5002. Copies of the EA are available online at https://go.usa.gov/xQZNb and the LSFO address above.

FOR FURTHER INFORMATION CONTACT: LSFO Mining Engineer Jennifer Maiolo at 970-826-5077 or via email at jmaiolo@blm.gov. Persons who use a telecommunications device for the deaf (TDD) may call the Federal Relay Service (FRS) at 1-800-877-8339 to contact the above individual during normal business hours. The FRS is available 24 hours a day, 7 days a week, to leave a message or questions for the above individual. You will receive a reply during normal business hours.

SUPPLEMENTARY INFORMATION: On April 6, 2017, the BLM received an LBA filed by Twentymile to lease 640-acres of Federal coal resources to expand its Twentymile Coal Foidel Creek Mine. The LBA underlies private surface and contains approximately 4.68 million tons of recoverable Federal coal resources. The coal resources to be offered are limited to coal recoverable by underground mining methods.

The Federal coal resources are located in Routt County, Colorado

Sixth Prime Meridian

T5N, R86W;

Sec 22: E½NE¼, NE¼SE¼, NE½SE¼SE¼;

Sec 23: N½, N½S½, N½SW¼SW¼.

These lands contain 640 acres, more or less.

The EA addresses natural resource, cultural, socioeconomic, environmental and cumulative impacts that would result from leasing these lands. Two alternatives are addressed in the EA:

Alternative 1: (Proposed Action) The tract would be leased as requested in the application; and

Alternative 2: (No Action) The application would be rejected or denied and the subsurface Federal coal reserves would be bypassed.

Proprietary information or data marked as confidential may be submitted to the BLM in response to this solicitation of comments. Information and data marked confidential will be treated in accordance with the applicable laws and regulations governing the confidentiality of such information or data. A copy of the comments submitted by the public on the EA, FMV, and MER for the tract, except those portions identified as proprietary by the author and meeting exemptions in the Freedom of Information Act, will be available for public inspection at the BLM LSFO, at the address listed above, during regular business hours (8 a.m. to 4:30 p.m.), Monday through Friday.

Comments on the EA, FMV and MER should address, but not necessarily be limited to, the following:

1. The quality and quantity of the Federal coal resources;

2. The mining methods or methods to be employed to obtain the MER of the coal, including the name of the coal bed(s) to be mined, timing and rate of production, restriction of mining, and the inclusion of the tracts in an existing mining operation;

3. The price the mined coal would bring when sold;

4. Costs, including mining and reclamation costs, of producing the coal and the anticipated timing of production;

5. The percentage rate at which anticipated income streams should be discounted, either with inflation, or in absence of inflation, in which case the anticipated rate of inflation should be given;

6. Depreciation, depletion, amortization and other tax accounting factors; and

7. The value of any privately held mineral or surface estate in the Foidel Creek Mine area.

Before including your address, phone number, email address, or other personal identifying information in your comment, you should be aware that your entire comment—including your personal identifying information—may be made publicly available. While you can ask us in your comment to withhold your personal identifying information from public review, we cannot guarantee that we will be able to do so.

Authority: 40 CFR 1506.6, 43 CFR 3425.3 and 3425.4.

Gregory P. Shoop,
Acting BLM Colorado State Director.

[FR Doc. 2018-24272 Filed 11-5-18; 8:45 am]

BILLING CODE 4310-JB-P